DEPARTMENT OF HEALTH AND HUMAN SERVICES

Centers for Medicare & Medicaid Services

[CMS-1214-N]

Medicare Program; March 25-26, 2002, Meeting of the Practicing Physicians Advisory Council

AGENCY: Centers for Medicare & Medicaid Services (CMS), HHS.

ACTION: Notice of meeting.

SUMMARY: In accordance with section 10(a) of the Federal Advisory Committee Act, this notice announces a meeting of the Practicing Physicians Advisory Council. The Council will be meeting to discuss certain proposed changes in regulations and carrier manual instructions related to physicians' services, as identified by the Secretary of the Department of Health and Human Services. These meetings are open to the public.

DATES: The meeting is scheduled for March 25, 2002, from 8:30 a.m. until 5 p.m. e.s.t., and March 26, 2002, from 8:30 a.m. until 1 p.m. e.s.t.

ADDRESSES: The meeting will be held in Room 800, 8th Floor, Hubert H. Humphrey Building, 200 Independence Avenue SW., Washington, DC 20201.

Meeting Registration: Persons wishing to attend this meeting must contact Diana Motsiopoulos, Administrative Officer, at dmotsiopoulos@cms.hhs.gov or (410) 786-3379, at least 72 hours in advance to register. Persons not registered in advance, will not be permitted into the building and will not be permitted to attend the meeting. Persons attending the meeting will be required to show a photographic identification, preferably a valid driver's license, before entering the building.

FOR FURTHER INFORMATION CONTACT: Paul Rudolf, M.D., J.D., Executive Director, Practicing Physicians Advisory Council, 7500 Security Blvd., Mail Stop C5-17-14, Baltimore, MD 21244-1850, 410-786-3379. News media representatives should contact the CMS Press Office, (202) 690-6145. Please refer to the CMS Advisory Committees Information Line (1-877-449-5659 toll free)/(410-786-9379 local) or the Internet at http://www.hcfa.gov/medicare/ppacsite.htm for additional information and updates on committee activities.

SUPPLEMENTARY INFORMATION: The Secretary of Health and Human Services (the Secretary) is mandated by section 1868 of the Social Security Act to appoint a Practicing Physicians Advisory Council (the Council) based on nominations submitted by medical organizations representing physicians. The Council meets quarterly to discuss certain proposed changes in regulations and carrier manual instructions related to physicians' services, as identified by the Secretary. To the extent feasible and consistent with statutory deadlines, the consultation must occur before publication of the proposed changes. The Council submits an annual report on its recommendations to the Secretary and the Administrator of the Centers for Medicare & Medicaid Services not later than December 31 of each year.

The Council consists of fifteen physicians, each of whom must have submitted at least two hundred fifty claims for physicians' services under Title XVIII in the previous year. Members shall include both participating and nonparticipating physicians, and physicians practicing in rural and under served urban areas. At least eleven members of the Council shall be physicians as described in section 1861(r)(1) (that is, M.D. or D.O.). The remaining four members may include dentists, podiatrists, optometrists and chiropractors. Members serve for overlapping 4-year terms; terms of more than 2 years are contingent upon the renewal of the Council by appropriate action prior to its termination. Section 1868(a) of the Act provides that nominations to the Secretary for Council membership must be made by medical organizations representing physicians.

The Council held its first meeting on May 11, 1992.

The current members are: Jerold M. Aronson, M.D.; James Bergeron, M.D.; Richard Bronfman, D.P.M.; Joseph Heyman, M.D.; Sandral Hullett, M.D.; Stephen A. Imbeau, M.D.; Joe Johnson, D.O.; Angelyn L. Moultrie-Lizana, D.O.; Dale Lervick, O.D.; Michael T. Rapp, M.D.; Sandra B. Reed, M.D.; Amilu Rothhammer, M.D.; Victor Vela, M.D.; Kenneth M. Viste, Jr., M.D.; and Douglas L. Wood, M.D.

The meeting will commence with a Council update on the status of prior recommendations, followed by discussion and comment on the following agenda topics:

• Physician's Regulatory Issues Team Update

• Update on Physician Fee Schedule

• Sustainable Growth Rate 2003

• Evaluation & Management Guidelines

• Health Insurance Portability & Accountability Act Privacy Rule

• Contractor Billing and Operations—Claims Processing

For additional information and clarification on these topics, contact the Executive Director, listed under the For Further Information Contact section of this notice. Individual physicians or medical organizations that represent physicians wishing to make a 5-minute oral presentation on agenda issues should contact the Executive Director by 12 noon, March 11, 2002, to be scheduled. Testimony is limited to agenda topics only. The number of oral presentations may be limited by the time available. A written copy of the presenter's oral remarks must be submitted to Diana Motsiopoulos, Administrative Officer no later than 12 noon, March 11, 2002, for distribution to Council members for review prior to the meeting. Physicians and medical organizations not scheduled to speak may also submit written comments to the Administrative Officer for distribution. The meeting is open to the public, but attendance is limited to the space available. Individuals requiring sign language interpretation for the hearing impaired or other special accommodation should contact Diana Motsiopoulos at dmotsiopoulos@cms.hhs.gov or (410) 786-3379 at least 10 days before the meeting.

Authority: (Section 1868 of the Social Security Act (42 U.S.C. 1395ee) and section 10(a) of Public Law 92-463 (5 U.S.C. App. 2, section 10(a)).

(Catalog of Federal Domestic Assistance Program No. 93.773, Medicare—Hospital Insurance; and Program No. 93.774, Medicare—Supplementary Medical Insurance Program)

Dated: February 19, 2002.
Thomas A. Scully,
Administrator, Centers for Medicare & Medicaid Services.

[FR Doc. 02-4356 Filed 2-21-02; 8:45 am]

BILLING CODE 4120-01-P